FEDERAL TRADE COMMISSION

Public Conference: Factors That Affect Prices of Refined Petroleum Products

AGENCY: Federal Trade Commission.

ACTION: Notice announcing public conference and opportunity for public comment.

SUMMARY: The Federal Trade Commission (“FTC” or “Commission”) will hold an initial public conference on August 2, 2001, to examine issues concerning prices of refined petroleum products in the United States. The Commission intends to solicit information and views relevant to the major factors affecting prices of refined products, and the relative importance of such factors. The Commission will hear from all interested parties—including consumer groups, industry participants, and independent experts—to identify issues that merit in-depth study in public hearings to be held later this year. Interested parties are invited to attend or to submit written presentations.

DATES: The public conference will be held on August 2, 2001. It will be open to the public, without fee, and advance registration is not required. Seats in the conference room will be available on a first-come, first-served basis; limited overflow seating will be available to view the conference via closed-circuit television. Because of the limited time available before the conference, written presentations may be submitted by September 14, 2001.

ADDRESSES: The initial public conference will be held in Room 432 of the Federal Trade Commission Headquarters Building, 600 Pennsylvania Avenue, N.W., Washington, D.C. 20580. All interested parties are invited to attend. Any interested party may submit a written presentation relevant to the Commission's inquiry; such presentations should be submitted on or before September 14, 2001. To facilitate efficient review of public presentations, each public presentation should if possible be filed in electronic form (as a WordPerfect, Word, or ASCII text file), by attaching it to an email message sent to the following email box: refinedpetroleumproducts@ftc.gov. The email message to which the presentation is attached should include the caption “Presentation on Factors that Affect Prices of Refined Petroleum Products;” the name of the presenter; and the name and version of the word processing program used to create the comment. Presentations which are instead filed in paper form should include the same caption and the name of the presenter, and should be addressed to Donald S. Clark, Office of the Secretary, Federal Trade Commission, 600 Pennsylvania Avenue, NW., Washington, DC 20580.

FOR FURTHER INFORMATION CONTACT: James Mongoven, Office of Policy and Evaluation, Bureau of Competition, Federal Trade Commission, 600 Pennsylvania Avenue, NW., Room 390, Washington, DC 20580; (202) 326-2879 (telephone); jmongoven@ftc.gov. (email). A detailed agenda and additional information relating to the public conference will be posted on the Commission's website, http://www.ftc.gov, in advance of the conference.

SUPPLEMENTARY INFORMATION: The level and volatility of prices of refined petroleum products have resulted in increased public concern. Both crude oil and refined petroleum products prices have been volatile in recent years, including occasional price spikes that have brought prices to high levels. In addition, the oil industry has experienced substantial restructuring through mergers and joint ventures in the 1990s.

The Commission has longstanding expertise and authority with respect to the oil and refined petroleum products industries. For example, the Commission has recently concluded two investigations into gasoline prices on the West Coast and in a number of Midwestern states. The Commission has also conducted antitrust investigations of a number of recent oil industry mergers, and issued orders requiring substantial divestitures in several cases to preserve competition.

Because of the importance to the American economy of issues raised in these investigations, the Commission plans to broaden its focus beyond law enforcement and to study in more detail the central factors that can affect the level and volatility of refined petroleum products prices throughout the United States.

This public conference will be the first step in soliciting information from interested parties that will assist the Commission in structuring later hearings to focus in a comprehensive manner on the most relevant and important issues. During this initial conference, participants will be asked to assist in identifying the issues that they find to be the most significant and that merit further study by the Federal Trade Commission.

The Commission anticipates that participants in the initial conference will focus on domestic and international aspects of some or all of the following areas: (1) The supply of crude oil, including exploration, production, importation, and transportation of crude oil; (2) the refining of fuel products and the importation of refined products; (3) the transportation of refined petroleum products; (4) the marketing and distribution of refined petroleum products; and (5) other factors that participants believe may be of interest to the Commission. Due to the expected high level of interest in this inquiry, participants will be limited to brief presentations, with questions and discussion to follow.

The Commission anticipates that the information gathered at this initial conference, and studied in greater depth at the later hearings, will lead to insights of importance to public policy concerning the level and volatility of prices of refined petroleum products, which the Commission expects to summarize and discuss in a public report.

By direction of the Commission.
Donald S. Clark,
Secretary.

[FR Doc. 01-17684 Filed 7-13-01; 8:45 am]

BILLING CODE 6750-01-P